DEPARTMENT OF AGRICULTURE

Commodity Credit Corporation

7 CFR Part 1464

[Docket ID NRCS-2019-0012]

RIN 0560-AA70

Regional Conservation Partnership Program; Correction

AGENCY: Commodity Credit Corporation (CCC) and Natural Resources Conservation Service (NRCS), USDA.

ACTION: Correcting amendment and extension of comment period for interim rule.

SUMMARY: CCC is correcting an interim rule that was published in the Federal Register on February 13, 2020, to incorporate the 2018 Farm Bill changes to the Regional Conservation Partnership Program (RCPP) program administration. There was an unintentional error that omitted several paragraphs in a certain section in the RCPP rule. CCC and NRCS are also extending the comment period for the interim rule.

DATES: Effective date: March 17, 2020.

Comments date: The comment period for the interim rule published February 13, 2020, at 85 FR 8131, is extended. We will consider comments that we receive by May 12, 2020.

ADDRESSES: We invite you to submit comments on the RCPP rule as amended by this correction. In your comments, include the date, volume, and page number of this issue of the Federal Register, and the title of document. You may submit comments by the following methods:

• Federal eRulemaking Portal: Go to http://www.regulations.gov and search for Docket ID NRCS-2019-0012. Follow the online instructions for submitting comments.

All written comments received will be publicly available on http://www.regulations.gov.

FOR FURTHER INFORMATION CONTACT: Michael Whitt; (202) 690-2267; email: michael.whitt@usda.gov. Persons with disabilities who require alternative means for communication should contact the USDA Target Center at (202) 720-2600 (voice only).

SUPPLEMENTARY INFORMATION:

Correcting Amendment to Regulations

The RCPP interim rule was published February 13, 2020, (85 FR 8131-8145) to implement the RCPP regulations. During the final stage of developing the interim rule, several paragraphs were inadvertently omitted in 7 CFR 1464.5. Several paragraphs about producer eligibility and practice standards were mistakenly deleted. This correction adds in the correct text for paragraph (c)(4), adds paragraphs (c)(5), (d), and (e)(1), and renumbers the text that should have been paragraph (e)(2). Paragraph (c) specifies requirements for producer to be eligible for RCPP. Paragraph (d) specifies requirements for land to be considered eligible for enrollment in RCPP. Paragraph (e) specifies requirements for activities to be eligible for RCPP.

List of Subjects in 7 CFR Part 1464

Agricultural operations, Conservation payments, Conservation practices, Eligible activities, Environmental credits, Forestry management, Natural resources, Resource concern, Soil and water conservation, Wildlife.

For the reasons stated in the preamble, CCC amends 7 CFR part 1464 by making the following correcting amendments:

PART 1464—REGIONAL CONSERVATION PARTNERSHIP PROGRAM

1. The authority citation for part 1464 continues to read as follows:

Authority: 15 U.S.C. 714b and 714c; 16 U.S.C. 3871 et seq.

Subpart A—General Provisions

2. Amend § 1464.5 by revising paragraph (c)(4) and adding paragraphs (c)(5), (d) and (e) to read as follows:

§ 1464.5 Program requirements.

* * * * *

(c) * * *

(4) Supply information, as required by NRCS, to determine eligibility for the program, including but not limited to, information that verifies the producer's status as a historically underserved producer, compliance with part 12 of this title, and compliance with adjusted gross income payment eligibility as established by part 1400 of this chapter; and

(5) For producers operating as a legal entity or joint operation, provide a list of all members of the legal entity or joint operation and embedded entities along with each members' tax identification numbers and percentage interest in the entity. However, where applicable, American Indians, Alaska Natives, and Pacific Islanders may use another unique identification number for each individual eligible for payment.

(d) Eligible land. Land may be considered eligible for enrollment in RCPP if NRCS determines that:

(1) The land is private or Tribal agricultural land, nonindustrial private forest land, or associated land on which an eligible activity would help achieve the conservation benefits defined for an approved project; or

(2) The land is publicly owned agricultural land or associated land and the enrollment of such land is—

(i) Appropriate for the type of eligible activity, and

(ii) The eligible activity to be implemented on the public land is necessary and will contribute meaningfully to achieving conservation benefits consistent with an approved project.

(e) Eligible activities. (1) In each partnership agreement, NRCS will identify the eligible activities that are available to producers and landowners through the project. Eligible activities may include land management, land rental activities, easements, or watershed type projects. Projects may use more than one type of eligible activity.

(2) NRCS may approve interim conservation practice standards or activities if—

(i) New technologies or management approaches that provide a high potential for optimizing conservation benefits have been developed; and

(ii) The interim conservation practice standard or activity incorporates the new technologies and provides financial assistance for pilot work to evaluate and assess the performance, efficiency, and effectiveness of the new technology or management approach.

* * * * *

Matthew Lohr,
Chief, Natural Resources Conservation Service.
Robert Stephenson,
Executive Vice President, Commodity Credit Corporation.

[FR Doc. 2020-05157 Filed 3-16-20; 8:45 am]

BILLING CODE 3410-16-P